DEPARTMENT OF JUSTICE

Notice of Lodging of Proposed National Resources Restoration Consent Decree Under the Comprehensive Environmental Response, Compensation and Liability Act

On October 13, 2016, the Department of Justice lodged a proposed Consent Decree with the United States District Court for the District of New Jersey in the lawsuit entitled United States v. Wyeth Holdings LLC, Civil Action No. 3:16-cv-07219-AET-LHG.

The United States filed this lawsuit under the Comprehensive Environmental Response, Compensation and Liability Act on behalf of the United States Fish and Wildlife Service and the National Oceanic and Atmospheric Administration. In its complaint the United States alleges that Defendant Wyeth Holdings LLC is liable for damages for, injury to, destruction of, or loss of natural resources in connection with the American Cyanamid Superfund Site in the Township of Bridgewater and Borough of Bound Brook, New Jersey. The proposed Consent Decree resolves claims brought by the United States and related claims brought by the New Jersey Department of Environmental Protection in a related action. In exchange for a covenant not to sue for injury to the Raritan River, Wyeth Holdings LLC agrees to remove the Weston Causeway Dam on the Millstone River; design a fish passage at the Island Farm Weir on the Raritan River; pay federal and state future oversight costs; reimburse federal and state assessment costs totaling $184,363; pay fish and habitat survey costs totaling $50,000; and fund the evaluation and monitoring of trust resources prior to and after removal of the Weston Causeway Dam.

The publication of this notice opens a period for public comment on the Consent Decree. Comments should be addressed to the Assistant Attorney General, Environment and Natural Resources Division, and should refer to United States v. Wyeth Holdings LLC, Civil Action No. 3:16-cv-07219-AET-LHG, D.J. Ref. No. 90-11-3-07250/2. All comments must be submitted no later than sixty (60) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $21.50 (25 cents per page reproduction cost) payable to the United States Treasury.

Robert E. Maher Jr.,
Assistant Section Chief, Environmental Enforcement Section, Environment and Natural Resources Division.

[FR Doc. 2016-25451 Filed 10-20-16; 8:45 am]

BILLING CODE 4410-15-P